DEPARTMENT OF THE INTERIOR

Minerals Management Service

30 CFR Part 206

RIN 1010-AC09

Establishing Oil Value for Royalty Due on Federal Leases; Correction

AGENCY: Minerals Management Service (MMS), Interior.

ACTION: Notice; correction.

SUMMARY: On December 30, 1999, MMS published a ``Further supplementary proposed rule'' (64 FR 73820) concerning the valuation for royalty purposes of crude oil produced from Federal leases. This notice corrects the email address for submitting comments electronically.

FOR FURTHER INFORMATION CONTACT: David S. Guzy, Chief, Rules and Publications Staff; telephone, (303) 2313432; FAX, (303) 2313385; email, David.Guzy@mms.gov; mailing address, Minerals Management Service, Royalty Management Program, Rules and Publications Staff, P.O. Box 25165, MS 3021, Denver, Colorado 802250165.

Correction

In the Federal Register of December 30, 1999, in FR Doc. 9933613, page 73838, column 2, the first sentence is revised to read:

You may also comment via the Internet to RMP.comments@mms.gov.

Dated: January 13, 2000.
R. Dale Fazio,
Acting Associate Director for Royalty Management.

[FR Doc. 00-1257 Filed 1-19-00- 8:45 am]

BILLING CODE 4310-MR-P